DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with January anniversary dates. In accordance with Commerce's regulations, we are initiating those administrative reviews.

DATES: Applicable March 10, 2020.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with January anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, except for the administrative review of the antidumping duty order on wooden bedroom furniture from the People's Republic of China (China), Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Respondent Selection—Wooden Bedroom Furniture From China

In the event that Commerce limits the number of respondents for individual examination in the antidumping duty administrative review of wooden bedroom furniture from China, for the purposes of this segment of the proceeding, i.e., the 2019 review period, Commerce intends to select respondents based on volume data contained in responses to a Q&V Questionnaire. All parties are hereby notified that they must timely respond to the Q&V Questionnaire. Commerce's Q&V Questionnaire along with certain additional questions will be available in a document package on Commerce's website at https://enforcement.trade.gov/download/prc-wbf/index.html on the date this notice is published. The responses to the Q&V Questionnaire should be filed with the respondents' Separate Rate Application or Separate Rate Certification (see the Separate Rates section below) and their response to the additional questions and must be received by Commerce by no later than 30 days after publication of this notice. Please be advised that due to the time constraints imposed by the statutory and regulatory deadlines for antidumping duty administrative reviews, Commerce does not intend to grant any extensions for the submission of responses to the Q&V Questionnaire.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. In addition, all firms that wish to qualify for separate-rate status in the antidumping duty administrative review of wooden bedroom furniture from China must complete, as appropriate, either a Separate Rate Certification or Application, as described below, and respond to the additional questions and the Q&V Questionnaire on Commerce's website at https://enforcement.trade.gov/download/prc-wbf/index.html. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. For the antidumping duty administrative review of wooden bedroom furniture from China, Separate Rate Certifications, as well as a response to the Q&V Questionnaire and the additional questions in the document package, are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. For the antidumping duty administrative review of wooden bedroom furniture from China, Separate Rate Status Applications, as well as a response to the Q&V Questionnaire and the additional questions in the document package, are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Furthermore, this notice constitutes public notification to all firms for which an antidumping duty administrative review of wooden bedroom furniture from China has been requested, and that are seeking separate rate status in the review, that they must submit a timely Separate Rate Application or Certification (as appropriate) as described above, and a timely response to the Q&V Questionnaire and the additional questions in the document package on Commerce's website in order to receive consideration for separate-rate status. In other words, Commerce will not give consideration to any timely Separate Rate Certification or Application made by parties who failed to respond in a timely manner to the Q&V Questionnaire and the additional questions. All information submitted by respondents in the antidumping duty administrative review of wooden bedroom furniture from China is subject to verification. As noted above, the Separate Rate Certification, the Separate Rate Application, the Q&V Questionnaire, and the additional questions will be available on Commerce's website on the date of publication of this notice in the Federal Register.

Initiation of Reviews

In accordance with 19 CFR 351.221(c)(1)(i), we are initiating administrative reviews of the following AD and CVD orders and findings. We intend to issue the final results of these reviews not later than January 31, 2021.

⁵ The company names listed above were misspelled in the initiation notice that published February 6, 2020 (85 FR 6896). The correct spelling of the company names is listed in this notice.

⁶ In the initiation notice that published on February 6, 2020 (85 FR 6896) Commerce inadvertently listed the wrong case number and case name for the case listed above. The correct case name and case number is listed in this notice.

| Period to be reviewed
AD Proceedings
Canada: Certain Softwood Lumber Products, A-122-857 | 1/1/19-12/31/19
0729670 B.C. Ltd. DBA Anderson Sales
1074712 BC Ltd.
258258 B.C. Ltd., dba Pacific Coast Cedar Products
5214875 Manitoba Ltd.
752615 B.C Ltd., Fraserview Remanufacturing Inc., d.b.a. Fraserview Cedar Products.
9224-5737 Québec Inc. (aka A.G. Bois)
A.B. Cedar Shingle Inc.
Absolute Lumber Products Ltd.
AJ Forest Products Ltd.
Alberta Spruce Industries Ltd.
Aler Forest Products Ltd.
Alpa Lumber Mills Inc.
American Pacific Wood Products
Anbrook Industries Ltd.
Andersen Pacific Forest Products Ltd.
Anglo-American Cedar Products Ltd.
Antrim Cedar Corporation
Aquila Cedar Products Ltd.
Arbec Lumber Inc.
Aspen Planers Ltd.
B&L Forest Products Ltd.
B.B. Pallets Inc.
Babine Forest Products Limited
Bakerview Forest Products Inc.
Bardobec Inc.
Barrette-Chapais Ltee
BarretteWood Inc.
Benoît & Dionne Produits Forestiers Ltée
Best Quality Cedar Products Ltd.
Blanchet Multi Concept Inc.
Blanchette & Blanchette Inc.
Bois Aisé de Montréal Inc.
Bois Bonsaï Inc.
Bois D'oeuvre Cedrico Inc. (aka Cedrico Lumber Inc.)
Bois Daaquam Inc.
Bois et Solutions Marketing SPEC Inc.
Boisaco
Boscus Canada Inc.
Boucher Bros. Lumber Ltd.
BPWood Ltd.
Bramwood Forest Inc.
Brink Forest Products Ltd.
Brunswick Valley Lumber Inc.
Busque & Laflamme Inc.
C&C Wood Products Ltd.
Caledonia Forest Products Inc.
Campbell River Shake & Shingle Co. Ltd.
Canadian American Forest Products Ltd.
Canadian Wood Products Inc.
Canfor Corporation/Canadian Forest Products Ltd./Canfor Wood Products
Marketing Ltd.
Canasia Forest Industries Ltd.
Canusa cedar Inc.
Canyon Lumber Company Ltd.
Careau Bois Inc.
Carrier & Begin Inc.
Carrier Forest Products Ltd.
Carrier Lumber Ltd.
Carter Forest Products Inc.
Cedar Valley Holdings Ltd.
Cedarline Industries Ltd.
Central Alberta Pallet Supply
Central Cedar Ltd.
Central Forest Products Inc.
Centurion Lumber Ltd.
Chaleur Sawmills LP
Channel-ex Trading Corporation
Clair Industrial Development Corp. Ltd.
Clermond Hamel Ltée
CNH Products Inc.
Coast Clear Wood Ltd.
Coast Mountain Cedar Products Ltd.
Commonwealth Plywood Co. Ltd.
Comox Valley Shakes Ltd./Comox Valley Shakes (2019) Ltd.
Conifex Fibre Marketing Inc.
Cowichan Lumber Ltd.
CS Manufacturing Inc., dba Cedarshed
CWP—Industriel Inc.
CWP—Montréal Inc.
D & D Pallets Ltd.
Dakeryn Industries Ltd.
Decker Lake Forest Products Ltd.
Delco Forest Products Ltd.
Delta Cedar Specialties Ltd.
Devon Lumber Co. Ltd.
DH Manufacturing Inc.
Direct Cedar Supplies Ltd.
Doubletree Forest Products Ltd.
Downie Timber Ltd.
Dunkley Lumber Ltd.
EACOM Timber Corporation
East Fraser Fiber Co. Ltd.
Edgewood Forest Products Inc.
ER Probyn Export Ltd.
Eric Goguen & Sons Ltd.
Falcon Lumber Ltd.
Fontaine Inc.
Foothills Forest Products Inc.
Fornebu Lumber Co. Ltd.
Fraser Specialty Products Ltd.
FraserWood Inc.
FraserWood Industries Ltd.
Furtado Forest Products Ltd.
G & R Cedar Ltd.
Galloway Lumber Company Ltd.
Glandell Enterprises Inc.
Goat Lake Forest Products Ltd.
Goldband Shake & Shingle Ltd.
Golden Ears Shingle Ltd.
Goldwood Industries Ltd.
Goodfellow Inc.
Gorman Bros. Lumber Ltd.
Groupe Crête Chertsey
Groupe Crête division St-Faustin
Groupe Lebel Inc.
Groupe Lignarex Inc.
H.J. Crabbe & Sons Ltd.
Haida Forest Products Ltd.
Harry Freeman & Son Ltd.
Hornepayne Lumber LP
Imperial Cedar Products Ltd.
Imperial Shake Co. Ltd.
Independent Building Materials Dist.
Interfor Corporation
Island Cedar Products Ltd.
Ivor Forest Products Ltd.
J&G Log Works Ltd.
J.D. Irving, Limited
J.H. Huscroft Ltd.
Jan Woodland (2001) Inc.
Jasco Forest Products Ltd.
Jazz Forest Products Ltd.
Jhajj Lumber Corporation
Kalesnikoff Lumber Co. Ltd.
Kan Wood Ltd.
Kebois Ltee/Ltd.
Keystone Timber Ltd.
Kootenay Innovative Wood Ltd.
Lafontaine Lumber Inc.
Langevin Forest Products Inc.
Lecours Lumber Co. Limited
Ledwidge Lumber Co. Ltd.
Leisure Lumber Ltd.
Les Bois d'oeuvre Beaudoin Gauthier Inc.
Les Bois Martek Lumber
Les Bois Traités M.G. Inc.
Les Chantiers de Chibougamau Ltd.
Les Produits Forestiers D&G Ltée
Leslie Forest Products Ltd.
Lignum Forest Products LLP
Linwood Homes Ltd.
Longlac Lumber Inc.
Lulumco Inc.
Magnum Forest Products Ltd.
Maibec Inc.
Manitou Forest Products Ltd.
Marcel Lauzon Inc.
Marwood Ltd.
Materiaux Blanchet Inc.
Matsqui Management and Consulting Services Ltd., dba Canadian Cedar Roofing Depot
Metrie Canada Ltd.
Mid Valley Lumber Specialties Ltd.
Midway Lumber Mills Ltd.
Mill & Timber Products Ltd.
Millar Western Forest Products Ltd.
Mobilier Rustique (Beauce) Inc.
MP Atlantic Wood Ltd.
Multicedre Ltee
Murray Brothers Lumber Company Ltd.
Nakina Lumber Inc.
National Forest Products Ltd.
New Future Lumber Ltd.
Nicholson and Cates Ltd.
Norsask Forest Products Limited Partnership
North American Forest Products Ltd.
North Enderby Timber Ltd.
Oikawa Enterprises Ltd.
Olympic Industries Inc./Olympic Industries ULC
Oregon Canadian Forest Products
Pacific Coast Cedar Products Ltd.
Pacific Pallet Ltd.
Pacific Western Wood Works Ltd.
Parallel Wood Products Ltd.
Pat Power Forest Products Corporation
Phoenix Forest Products Inc.
Pine Ideas Ltd.
Pioneer Pallet & Lumber Ltd.
Porcupine Wood Products Ltd.
Portbec Forest Products Ltd.
Power Wood Corp.
Precision Cedar Products Corp.
Prendiville Industries Ltd. (aka, Kenora Forest Products)
Produits Forestiers Petit Paris
Produits forestiers Temrex, s.e.c.
Produits Matra Inc.
Promobois G.D.S. Inc.
Rayonier A.M. Canada GP
Rembos Inc.
Rene Bernard Inc.
Resolute FP Canada Inc./Resolute Growth Canada Inc./Abitibi-LP Engineered Wood Inc./Abitibi-LP Engineered Wood II Inc./Forest Products Mauricie LP/Produits Forestiers Petit-Paris Inc./Socie´te´ en commandite Scierie Opitciwan
Richard Lutes Cedar Inc.
Rielly Industrial Lumber Inc.
Roland Boulanger & Cie Ltee
S & K Cedar Products Ltd.
S&W Forest Products Ltd.
S&R Sawmills Ltd.
San Industries Ltd.
Sawarne Lumber Co. Ltd.
Scierie Alexandre Lemay & Fils Inc.
Scierie P.S.E. Inc.
Scierie St-Michel Inc.
Scierie West Brome Inc.
Scotsburn Lumber Co. Ltd.
Sechoirs de Beauce Inc.
Serpentine Cedar Ltd.
Sexton Lumber Co. Ltd.
Sigurdson Forest Products Ltd.
Silvaris Corporation
Silver Creek Premium Products Ltd.
Sinclar Group Forest Products Ltd.
Skana Forest Products Ltd.
Skeena Sawmills Ltd.
Sound Spars Enterprise Ltd.
South Beach Trading Inc.
Specialiste du Bardeau de Cedre Inc. (SBC)
Spruceland Millworks Inc.
Star Lumber Canada Ltd.
Sundher Timber Products Ltd.
Surrey Cedar Ltd.
T.G. Wood Products Ltd.
Taan Forest LP/Taan Forest Products
Taiga Building Products Ltd.
Tall Tree Lumber Company
Teal Cedar Products Ltd./The Teal-Jones Group
Tembec Inc.
Terminal Forest Products Ltd.
The Wood Source Inc.
Tolko Industries Ltd./Tolko Marketing and Sales Ltd./Gilbert Smith Forest Products Ltd.
Trans-Pacific Trading Ltd.
Triad Forest Products Ltd.
Twin Rivers Paper Co. Inc.
Tyee Timber Products Ltd.
Universal Lumber Sales Ltd.
Usine Sartigan Inc.
Vaagen Fibre Canada, ULC
Valley Cedar 2 Inc./Valley Cedar 2 ULC
Vancouver Island Shingle Ltd.
Vancouver Specialty Cedar Products Ltd.
Vanderhoof Specialty Wood Products Ltd.
Visscher Lumber Inc.
W.I. Woodtone Industries Inc.
Waldun Forest Product Sales Ltd.
Watkins Sawmills Ltd.
West Bay Forest Products Ltd.
West Fraser Mills Ltd., Blue Ridge Lumber Inc./Manning Forest Products Ltd./and Sundre Forest Products Inc.
West Fraser Timber Co. Ltd.
West Wind Hardwood Inc.
Western Forest Products Inc.
Western Lumber Sales Limited
Western Wood Preservers Ltd.
Weston Forest Products Inc.
Westrend Exteriors Inc.
Weyerhaeuser Co.
White River Forest Products L.P.
Winton Homes Ltd.
Woodline Forest Products Ltd.
Woodstock Forest Products/Woodstock Forest Products Inc.
Woodtone Specialties Inc.
Yarrow Wood Ltd.
Thailand: Prestressed Concrete Steel Wire Strand, A-549-820 | 1/1/19-12/31/19
The Siam Industrial Wire Co., Ltd.
The People's Republic of China: Hardwood Plywood Products, A-570-051 | 1/1/19-12/31/19
Anhui Hoda Wood Co., Ltd.
Celtic Co., Ltd.
Cosco Star International Co., Ltd.
Feixian Longteng Wood Co., Ltd.
Golder International Trade Co., Ltd.
Happy Wood Industrial Group Co., Ltd.
Highland Industries-Hanlin
Huainan Mengping Import and Export Co., Ltd.
Jiangsu High Hope Arser Co., Ltd.
Jiangsu Sunwell Cabinetry Co., Ltd.
Jiangsu Top Point International Co., Ltd.
Jiaxing Gsun Imp. & Exp. Co., Ltd.
Jiaxing Hengtong Wood Co., Ltd.
Lianyungang Yuantai International Trade Co., Ltd.
Linyi Bomei Furniture Co., Ltd.
Linyi Chengen Import and Export Co., Ltd.
Linyi City Dongfang Jinxin Economic and Trade Co., Ltd. (a/k/a Linyi City Dongfang Jinxjin Economic and Trade Co., Ltd.)
Linyi Dahua Wood Co., Ltd.
Linyi Evergreen Wood Co., Ltd.
Linyi Glary Plywood Co., Ltd.
Linyi Hengsheng Wood Industry Co., Ltd.
Linyi Huasheng Yongbin Wood Co., Ltd.
Linyi Jiahe Wood Industry Co., Ltd.
Linyi Linhai Wood Co., Ltd.
Linyi Mingzhu Wood Co., Ltd.
Linyi Sanfortune Wood Co., Ltd.
Pingyi Jinniu Wood Co., Ltd.
Qingdao Good Faith Import and Export Co., Ltd.
Qingdao Top P&Q International Corp.
SAICG International Trading Co., Ltd.
Shandong Dongfang Bayley Wood Co., Ltd.
Shandong Jinhua International Trading Co., Ltd.
Shandong Jinluda International Trade Co., Ltd.
Shandong Qishan International Trading Co., Ltd.
Shandong Senmanqi Import & Export Co., Ltd.
Shandong Shengdi International Trading Co., Ltd.
Shanghai Brightwood Trading Co., Ltd.
Shanghai Futuwood Trading Co., Ltd.
Shanghai Luli Trading Co., Ltd.
Suining Pengxiang Wood Co., Ltd.
Sumec International Technology Co., Ltd.
Suqian Hopeway International Trade Co., Ltd.
Suzhou Fengshuwan Import and Export Trade Co., Ltd. a/k/a Suzhou Fengshuwan I&E Trade Co., Ltd.
Suzhou Oriental Dragon Import and Export Co., Ltd.
Vietnam Finewood Company Limited
Win Faith Trading Limited
Xuzhou Amish Import & Export Co., Ltd.
Xuzhou Andefu Wood Co., Ltd.
Xuzhou Constant Forest Industry Co., Ltd.
Xuzhou DNT Commercial Co., Ltd.
Xuzhou Jiangheng Wood Products Co., Ltd.
Xuzhou Jiangyang Wood Industries Co., Ltd.
Xuzhou Longyuan Wood Industry Co., Ltd.
XuZhou PinLin International Trade Co., Ltd.
Xuzhou Shengping Imp and Exp Co., Ltd.
Xuzhou Timber International Trade Co., Ltd.
Yishui Zelin Wood Made Co., Ltd.
Zhejiang Dehua TB Import & Export Co., Ltd.
The People's Republic of China: Potassium Permanganate, A-570-001 | 1/1/19-12/31/19
Pacific Accelerator Limited
Chongqing Changyuan Group Limited (Chongqing Changyuan Chemical Corporation Limited)
The People's Republic of China: Wooden Bedroom Furniture, A-570-890 | 1/1/19-12/31/19
Dongguan Chengcheng Group Co., Ltd.
Dongguan Mu Si Furniture Co., Ltd.
Dongguan Nova Furniture Co., Ltd.
Dongguan Singways Furniture Co., Ltd.
Dongguan Sunshine Furniture Co., Ltd.
Dongguan Sunrise Furniture Co., Taicang Sunrise Wood Industry Co., Ltd., Shanghai Sunrise Furniture Co., Ltd., Fairmont Designs
Dongguan Sunrise Furniture Co., Ltd. Taicang Fairmont Designs Furniture Co., Ltd., Meizhou Sunrise Furniture Co., Ltd.
Dongguan Yujia Furniture Co., Ltd.
Dongguan Zhisheng Furniture Co., Ltd.
Dorbest Ltd., Rui Feng Woodwork Co., Ltd. AKA Rui Feng Woodwork (Dongguan) Co., Ltd., Rui Feng Lumber Development Co., Ltd. AKA Rui Feng Lumber Development (Shenzhen) Co., Ltd.
Dream Rooms Furniture (Shanghai) Co. Ltd.
Eurosa (Kunshan) Co., Ltd., Eurosa Furniture Co., (PTE) Ltd.
Fleetwood Fine Furniture LP
Fortune Furniture Ltd., Dongguan Fortune Furniture Ltd.
Fujian Lianfu Forestry Co., Ltd. (AKA Fujian Wonder Pacific, Inc.), Fuzhou Huan Mei Furniture Co., Ltd., Jiangsu Dare Furniture Co., Ltd.
Golden Well International (HK), Ltd.
Guangdong New Four Seas Furniture Manufacturing Ltd.
Guangzhou Lucky Furniture Co., Ltd.
Guangzhou Maria Yee Furnishings Ltd., Pyla HK Ltd., Maria Yee, Inc.
Hang Hai Woodcrafts Art Factory
Jiangmen Kinwai Furniture Decoration Co., Ltd.
Jiangmen Kinwai International Furniture Co., Ltd.
Jiangsu Xiangsheng Bedtime Furniture Co., Ltd.
Jiangsu Yuexing Furniture Group Co., Ltd.
Jiashan Zhenxuan Furniture Co., Ltd.
Jiedong Lehouse Furniture Co., Ltd.
King's Way Furniture Industries Co., Ltd., Kingsyear, Ltd.
Nanhai Jiantai Woodwork Co. Ltd., Fortune Glory Industrial Ltd. (H.K. Ltd.)
Nantong Wangzhuang Furniture Co. Ltd.
Nantong Yangzi Furniture Co. Ltd.
Nathan International Ltd., Nathan Rattan Factory
Perfect Line Furniture Co., Ltd.
PuTian JingGong Furniture Co., Ltd.
Qingdao Beiyuan Industry Trading Co., Ltd., Qingdao Beiyuan Shengli Furniture Co., Ltd.
Shanghai Jian Pu Export & Import Co., Ltd.
Shanghai Maoji Imp & Exp Co., Ltd.
Shenyang Shining Dongxing Furniture Co., Ltd.
Shenzhen Diamond Furniture Co., Ltd.
Shenzhen Forest Furniture Co., Ltd.
Shenzhen Jiafa High Grade Furniture Co., Ltd., Golden Lion International Trading Ltd.
Shenzhen Jichang Wood Products Co. Ltd.
Shenzhen New Fudu Furniture Co., Ltd.
Shenzhen Wonderful Furniture Co., Ltd.
Shenzhen Xingli Furniture Co., Ltd.
Shing Mark Enterprise Co., Ltd., Carven Industries Ltd. (BVI), Carven Industries Ltd. (HK), Dongguan Zhenxin Furniture Co., Ltd., Dongguan Yonapeng Furniture Co., Ltd.
Songgang Jasonwood Furniture Factory, Jasonwood Industrial Co., Ltd. SA
Sunforce Furniture (Hui-Yang) Co., Ltd., Sun Fung Wooden Factory, Sun Fung Co., Shin Feng Furniture Co., Ltd., Stupendous International Co., Ltd.
Superwood Co. Ltd., Lianjiang Zongyu Art Products Co., Ltd.
Taicang Fairmount Designs Furniture Co. Ltd.
Tradewinds Furniture Ltd. (successor-in-interest to Nanhai Jiantai Woodwork Co.), Fortune Glory Industrial Ltd. (H.K. Ltd.)
Tube-Smith Enterprise (Zhangzhou) Co., Ltd., Tube-Smith Enterprise (Haimen) Co., Ltd., Billionworth Enterprises Ltd.
Weimei Furniture Co., Ltd.
Wuxi Yushea Furniture Co., Ltd.
Xiamen Yongquan Sci-Tech Development Co., Ltd.
Xilinmen Group Co. Ltd.
Yeh Brothers World Trade Inc.
Yihua Lifestyle Technology Co., Ltd.
Yihua Timber Industry Co., Ltd., Guangdong Yihua Timber Industry Co., Ltd.
Zhangjiagang Daye Hotel Furniture Co. Ltd.
Zhangzhou Guohui Industrial & Trade Co., Ltd.
Zhangzhou XYM Furniture Product Co., Ltd.
Zhejiang Tianyi Scientific & Educational Equipment Co., Ltd.
Zhongshan Fookyik Furniture Co., Ltd.
Zhong Shan Fullwin Furniture Co., Ltd.
Zhongshan Golden King Furniture Industrial Co., Ltd.
Zhoushan For-Strong Wood Co., Ltd.
Turkey: Welded Line Pipe,⁵ A-489-822 | 12/1/18-11/30/19
Borusan Mannesmann Boru Sanayi ve Ticaret A.S.
Cayirova Boru Sanayi ve Ticaret A.S.
Yücel Boru Ithalat-Ihracat ve Pazarlama A.S.
United Arab Emirates: Circular Welded Carbon-Quality Steel Pipe,⁶ A-520-807 | 12/1/18-11/30/19

| Period to be reviewed
CVD Proceedings
Canada: Certain Softwood Lumber Products, C-122-858 | 1/1/19-12/31/19
1074712 BC Ltd.
258258 B.C. Ltd., dba Pacific Coast Cedar Products
5214875 Manitoba Ltd.
752615 B.C Ltd., Fraserview Remanufacturing Inc., dba Fraserview Cedar Products
9224-5737 Québec Inc. (aka A.G. Bois)
A.B. Cedar Shingle Inc.
Absolute Lumber Products, Ltd.
AJ Forest Products Ltd.
Alberta Spruce Industries Ltd.
Aler Forest Products, Ltd.
Alpa Lumber Mills Inc.
AM Lumber Brokerage
American Pacific Wood Products
Anbrook Industries Ltd.
Andersen Pacific Forest Products Ltd.
Anglo-American Cedar Products Ltd.
Antrim Cedar Corporation
Aquila Cedar Products Ltd.
Arbec Lumber Inc.
Aspen Planers Ltd.
B&L Forest Products Ltd.
B.B. Pallets Inc.
Babine Forest Products Limited
Bakerview Forest Products Inc.
Bardobec Inc.
Barrette-Chapais Ltee
BarretteWood Inc.
Benoît & Dionne Produits Forestiers Ltée
Best Quality Cedar Products Ltd.
Blanchet Multi Concept Inc.
Blanchette & Blanchette Inc.
Bois Aisé de Montréal Inc.
Bois Bonsaï Inc.
Bois D'oeuvre Cedrico Inc. (aka Cedrico Lumber Inc.)
Bois Daaquam Inc.
Bois et Solutions Marketing SPEC Inc.
Boisaco
Boscus Canada Inc.
BPWood Ltd.
Bramwood Forest Inc.
Brink Forest Products Ltd.
Brunswick Valley Lumber Inc.
Busque & Laflamme Inc.
C&C Wood Products Ltd.
Caledonia Forest Products Inc.
Campbell River Shake & Shingle Co. Ltd.
Canadian American Forest Products Ltd.
Canadian Wood Products Inc.
Canasia Forest Industries Ltd
Canfor Corporation/Canadian Forest Products Ltd./Canfor Wood Products Marketing Ltd.
Canusa cedar Inc.
Canyon Lumber Company Ltd.
Careau Bois Inc.
Carrier & Begin Inc.
Carrier Forest Products Ltd.
Carrier Lumber Ltd.
Cedar Valley Holdings Ltd.
Cedarline Industries Ltd.
Central Alberta Pallet Supply
Central Cedar Ltd.
Central Forest Products Inc.
Centurion Lumber Ltd.
Chaleur Sawmills LP
Channel-ex Trading Corporation
Clair Industrial Development Corp. Ltd.
Clermond Hamel Ltée
CNH Products Inc.
Coast Clear Wood Ltd.
Coast Mountain Cedar Products Ltd.
Columbia River Shake & Shingle Ltd.
Commonwealth Plywood Co. Ltd.
Comox Valley Shakes Ltd./Comox Valley Shakes (2019) Ltd.
Conifex Fibre Marketing Inc.
Cowichan Lumber Ltd.
CS Manufacturing Inc., dba Cedarshed
CWP—Industriel Inc.
CWP—Montréal Inc.
D & D Pallets Ltd.
Dakeryn Industries Ltd.
Decker Lake Forest Products Ltd.
Delco Forest Products Ltd.
Delta Cedar Specialties Ltd.
Devon Lumber Co. Ltd.
DH Manufacturing Inc.
Direct Cedar Supplies Ltd.
Doubletree Forest Products Ltd.
Downie Timber Ltd.
Dunkley Lumber Ltd.
EACOM Timber Corporation
East Fraser Fiber Co. Ltd.
Edgewood Forest Products Inc.
ER Probyn Export Ltd.
Eric Goguen & Sons Ltd.
Falcon Lumber Ltd.
Fontaine Inc.
Foothills Forest Products Inc.
Fornebu Lumber Co. Ltd.
Fraser Specialty Products Ltd.
FraserWood Inc.
FraserWood Industries Ltd.
Furtado Forest Products Ltd.
G & R Cedar Ltd.
Galloway Lumber Company Ltd.
Glandell Enterprises Inc.
Goat Lake Forest Products Ltd.
Goldband Shake & Shingle Ltd.
Golden Ears Shingle Ltd.
Goldwood Industries Ltd.
Goodfellow Inc.
Gorman Bros. Lumber Ltd.
Groupe Crête Chertsey
Groupe Crête division St-Faustin
Groupe Lebel Inc.
Groupe Lignarex Inc.
H.J. Crabbe & Sons Ltd.
Haida Forest Products Ltd.
Harry Freeman & Son Ltd.
Hornepayne Lumber LP
Imperial Cedar Products, Ltd.
Imperial Shake Co. Ltd.
Independent Building Materials Dist.
Interfor Corporation
Island Cedar Products Ltd.
Ivor Forest Products Ltd.
J&G Log Works Ltd.
J.D. Irving, Limited
J.H. Huscroft Ltd.
Jan Woodland (2001) Inc.
Jasco Forest Products Ltd.
Jazz Forest Products Ltd.
Jhajj Lumber Corporation
Kalesnikoff Lumber Co. Ltd.
Kan Wood, Ltd.
Kebois Ltée/Ltd.
Keystone Timber Ltd.
Kootenay Innovative Wood Ltd.
L'Atelier de Réadaptation au Travail de Beauce Inc.
Lafontaine Lumber Inc.
Langevin Forest Products Inc.
Lecours Lumber Co. Limited
Ledwidge Lumber Co. Ltd.
Leisure Lumber Ltd.
Les Bois d'oeuvre Beaudoin Gauthier Inc.
Les Bois Martek Lumber
Les Bois Traités M.G. Inc.
Les Chantiers de Chibougamau Ltd.
Les Produits Forestiers D&G Ltée/Le Groupe Gesco-Star Ltée/Les Produits Forestiers Portbec Ltée/Les Produits Forestiers Startrees Ltée ⁷
Leslie Forest Products Ltd.
Lignum Forest Products LLP
Linwood Homes Ltd.
Longlac Lumber Inc.
Lulumco Inc.
Magnum Forest Products Ltd.
Maibec inc.
Manitou Forest Products Ltd.
Marcel Lauzon Inc./Placements Marcel Lauzon Ltée/Investissements LRC Inc.⁸
Marwood Ltd.
Materiaux Blanchet Inc.
Matsqui Management and Consulting Services Ltd., dba Canadian Cedar Roofing Depot
Metrie Canada Ltd.
Mid Valley Lumber Specialties Ltd.
Midway Lumber Mills Ltd.
Mill & Timber Products Ltd.
Millar Western Forest Products Ltd.
Mobilier Rustique (Beauce) Inc.
MP Atlantic Wood Ltd.
Multicedre Ltée
Murray Brothers Lumber Company Ltd
Nakina Lumber Inc.
National Forest Products Ltd.
New Future Lumber Ltd.
Nicholson and Cates Ltd.
Norsask Forest Products Limited Partnership
North American Forest Products Ltd. (located in Abbotsford, British Columbia)
North American Forest Products Ltd. (located in Saint-Quentin, New Brunswick)/Parent-Violette Gestion Ltée/Le Groupe Parent Ltée ⁹
North Enderby Timber Ltd.
Oikawa Enterprises Ltd.
Olympic Industries Inc./Olympic Industries ULC
Oregon Canadian Forest Products
Pacific Pallet Ltd.
Pacific Western Wood Works Ltd.
Parallel Wood Products Ltd.
Pat Power Forest Products Corporation
Phoenix Forest Products Inc.
Pine Ideas Ltd.
Pioneer Pallet & Lumber Ltd.
Porcupine Wood Products Ltd.
Portbec Forest Products Ltd.
Power Wood Corp.
Precision Cedar Products Corp.
Prendiville Industries Ltd. (aka, Kenora Forest Products)
Produits Forestiers Petit Paris
Produits forestiers Temrex, s.e.c.
Produits Matra Inc.
Promobois G.D.S. inc.
Quadra Cedar
Rayonier A.M. Canada GP
Rembos Inc.
Rene Bernard Inc.
Resolute FP Canada Inc./Resolute Growth Canada Inc./Produits Forestiers Mauricie SEC./Abitibi-Bowater Canada Inc./Bowater Canadian Ltd./Resolute Forest Products Inc.
Richard Lutes Cedar Inc.
Rielly Industrial Lumber Inc.
Roland Boulanger & Cie Ltée/Industries Daveluyville Inc./Les Manufacturiers Warwick Ltée ¹⁰
S & K Cedar Products Ltd.
S&R Sawmills Ltd.
S&W Forest Products Ltd.
San Industries Ltd.
Sawarne Lumber Co. Ltd.
Scierie Alexandre Lemay & Fils Inc./Bois Lemay Inc./Industrie Lemay Inc.¹¹
Scierie P.S.E. lnc.
Scierie St‐Michel inc.
Scierie West Brome Inc.
Scotsburn Lumber Co. Ltd.
Scott Lumber Sales
Sechoirs de Beauce Inc.
Serpentine Cedar Ltd.
Sexton Lumber Co. Ltd.
Sigurdson Forest Products Ltd.
Silvaris Corporation
Silver Creek Premium Products Ltd.
Sinclar Group Forest Products Ltd.
Skana Forest Products Ltd.
Skeena Sawmills Ltd.
Sound Spars Enterprise Ltd.
South Beach Trading Inc.
Specialiste de Bardeau de Cedre Inc. (SBC)
Spruceland Millworks Inc.
Star Lumber Canada Ltd.
Sundher Timber Products Ltd.
Surrey Cedar Ltd.
T.G. Wood Products Ltd.
Taan Forest LP/Taan Forest Products
Taiga Building Products Ltd.
Tall Tree Lumber Company
Teal Cedar Products Ltd./The Teal Jones Group
Tembec Inc.
Temrex Produits Forestiers s.e.c.
Terminal Forest Products Ltd.
The Wood Source Inc.
Tolko Industries Ltd./Tolko Marketing and Sales Ltd./Gilbert Smith Forest Products Ltd.
Trans-Pacific Trading Ltd.
Triad Forest Products Ltd.
Twin Rivers Paper Co. Inc.
Tyee Timber Products Ltd.
Universal Lumber Sales Ltd.
Usine Sartigan Inc.
Vaagen Fibre Canada ULC
Valley Cedar 2 Inc./Valley Cedar 2 ULC
Vancouver Island Shingle Ltd.
Vancouver Specialty Cedar Products Ltd.
Vanderhoof Specialty Wood Products Ltd.
Visscher Lumber Inc.
W.I. Woodtone Industries Inc.
Waldun Forest Product Sales Ltd.
Watkins Sawmills Ltd.
West Bay Forest Products Ltd.
West Fraser Mills Ltd./West Fraser Timber Co. Ltd./West Fraser Alberta Holdings Ltd./Blue Ridge Lumber Inc./Manning Forest Products Ltd./Sunpine Inc./Sundre Forest Products Inc.
West Wind Hardwood Inc.
Western Forest Products Inc.
Western Lumber Sales Limited
Western Wood Preservers Ltd.
Weston Forest Products Inc.
Westrend Exteriors Inc.
Weyerhaeuser Co.
White River Forest Products L.P.
Winton Homes Ltd.
Woodline Forest Products Ltd.
Woodstock Forest Products/Woodstock Forest Products Inc.
Woodtone Specialties Inc.
Yarrow Wood Ltd.
Woodstock Forest Products/Woodstock Forest Products Inc.
Woodtone Specialties Inc.
Yarrow Wood Ltd.
The People's Republic of China: Hardwood Plywood Products, C-570-052 | 1/1/19-12/31/19
Anhui Hoda Wood Co., Ltd
Celtic Co., Ltd
Feixian Longteng Wood Co., Ltd
Golder International Trade Co., Ltd
Huainan Mengping Import and Export Co., Ltd
Jiangsu Top Point International Co., Ltd
Jiaxing Gsun Imp. & Exp. Co., Ltd
Jiaxing Hengtong Wood Co., Ltd
Linyi Celtic Wood Co., Ltd
Linyi Chengen Import and Export Co., Ltd
Linyi Evergreen Wood Co., Ltd
Linyi Glary Plywood Co., Ltd
Linyi Hengsheng Wood Industry Co., Ltd
Linyi Huasheng Yongbin Wood Co., Ltd
Linyi Jiahe Wood Industry Co., Ltd
Linyi Linhai Wood Co., Ltd
Linyi Mingzhu Wood Co., Ltd
Linyi Sanfortune Wood Co., Ltd
Qingdao Good Faith Import and Export Co., Ltd
Shandong Dongfang Bayley Wood Co., Ltd
Shandong Jinluda International Trade Co., Ltd
Shandong Qishan International Trading Co., Ltd
Shandong Senmanqi Import & Export Co., Ltd
Shandong Shengdi International Trading Co., Ltd
Shanghai Brightwood Trading Co., Ltd
Shanghai Futuwood Trading Co., Ltd
Suining Pengxiang Wood Co., Ltd
Sumec International Technology Co., Ltd
Suqian Hopeway International Trade Co., Ltd
Suzhou Oriental Dragon Import and Export Co., Ltd
Xuzhou Pinlin International Trade Co., Ltd
Xuzhou Andefu Wood Co., Ltd
Xuzhou Constant Forest Industry Co., Ltd
Xuzhou DNT Commercial Co., Ltd
Xuzhou Jiangheng Wood Products Co., Ltd
Xuzhou Jiangyang Wood Industries Co., Ltd
Xuzhou Longyuan Wood Industry Co., Ltd
Xuzhou Shengping Imp and Exp Co., Ltd
Xuzhou Timber International Trade Co., Ltd
Yishui Zelin Wood Made Co., Ltd
The People's Republic of China: Oil Country Tubular Goods, C-570-944 | 1/1/19-12/31/19
Anhui Baitai Steel Industry Co., Ltd.
Anhui Yingsheng Steel Pipe Manufacturing Co., Ltd.
Anji Pengda Steel Pipe Co., Ltd
Baoshan Iron & Steel Co., Ltd.
Baotou Gangxing Industrial Group (HU)
Beijing Fenglong Technology Co., Ltd.
Beijing Hengzhixinda Trade Co., Ltd.
Bestar Steel Co., Ltd
Changshu Chang Yee Imp And Exp Co. Ltd.
Changshu Hexin Stainless Steel
Changshu Walsin Metal Industrial Co., Ltd.
Changshu Walsin Specialty Steel Co., Ltd.
Changxing Xingyang Import & Export
Changzhou Changbao Precision & Special Steel Tubes Co., Ltd.
Changzhou Hengfeng Stainless Steel Pipe Factory
Changzhou HongRen Precision Pipe Manufacturing Co., Ltd.
Changzhou Hongtai Precision Steel Pipe Co., Ltd
Changzhou Tremen Steel Co., Ltd.
Chaoteng Group Ltd.
China National Building Materials Group (CNBM) Corporation
China United International Company
Cixi Zhonghuan Machinery
Csm-Tech Co., Ltd.
Dalian Exchanflow Fluid Equipment
Dalian Grand International Trade Co.
Dalian Xinyingpeng International Trade Co., Ltd.
Dexin Steel Tube (China) Co., Ltd.
Dongguan Chang Tain Metals Co.
Dongguan Sanchuang Composite Materials Technology Co., Ltd.
Dongying Kechuang Petroleum Equipment Co., Ltd.
Eastsun (Hongkong) Development Ltd.
Foshan Runtian Metal Products Co., Ltd.
Foshan Holar Stainless Steel Products Ltd.
Gaoyou Huaxing Petroleum Pipe Manufacturing Co., Ltd.
GE (Shanghai) Power Technology Co., Ltd.
Guangdong Jiahong Company
Guangzhou Guangtex Trade Co., Ltd.
Guilin Lijia Metals Co., Ltd.
Henan Dongfanglong Machine Manufacture Co., Ltd.
Henan Steel Guang International Trade Co., Ltd.
Hengyang Hongyuan Pipe Industry Co., Ltd.
Hengyang Hongda Special Steel Tube Co., Ltd.
Hengyang Steel Tube Group Int'l Trading Inc.
Hong Yue Stainless Steel Ltd.
Hubei Xinyegang Steel Co., Ltd
Huludao Steel Pipe Industrial Co., Ltd.
Hunan Standard Steel Co., Ltd.
Huzhou Kelai Import & Export Co., Ltd.
Jiangsu Changbao Steel Tube Co., Ltd.
Jiangsu Changbao Taobang Petroleum Pipe Co., Ltd.
Jiangsu ChengDe Steel Tube Share Co., Ltd.
Jiangsu Hongji Metal Products Co., Ltd.
Jiangsu Hongyi Steel Pipe Co., Ltd.
Jiangsu JinDi Special Steel Co., Ltd.
Jiangsu Wujin Stainless Steel Pipe Group Co., Ltd.
Jiangyin Zenith Metals Co., Ltd.
Jiaxing Exen Trading Co., Ltd.
Jiaxing MT Stainless Steel Co., Ltd.
Jiaxing Usui Tsurumi Precision Tube
JINAN Yingsiman Machinery Co., Ltd.
Jun Yi Coated Pipe Co., Ltd.
Juyi Steelpipe Co., Ltd.
Lord Steel International Co., Ltd.
Luoyang Sunrui Special Equipment Co., Ltd.
Mainchain International Inc.
Megagroup Pacific Ltd.
Mulmic Co., Ltd.
Nanchang Twin-Win Import & Export Trade Co., Ltd.
Nantong Special Steel Co., Ltd.
Omprs Group Co., Ltd.
P.A. Tech Co., Ltd.
Puyang Zhongshi Group Co., Ltd.
Qingdao Hijiton International Trade
Ronsberg Steel Group Limited
Shaanxi Newland Industrial Co., Ltd.
Shandong Jianning Metals Co., Ltd.
Shandong Liaocheng ZGL Import & Export Co., Ltd.
Shandong Xinyuan Steel Pipe Mfg Co., Ltd.
Shandong Yonglijinggong Petroleum Equipment Co., Ltd.
Shanghai Baoluo Stainless Steel Tube Co., Ltd.
Shanghai Baoyi Steel Pipe Limited Company
Shanghai Crystal Palace Pipe Co., Ltd.
Shanghai CS Manufacturing Co.
Shanghai Dongjia Casting Factory
Shanghai Good-Relation Precision
Shanghai Handun Trading Co., Ltd.
Shanghai Huagang Stainless Steel Co., Ltd.
Shanghai Jaway Metal Co., Ltd.
Shanghai Jun Wen (JW) Steel Co., Ltd.
Shanghai Juxing Industrial Co., Ltd.
Shanghai Kinetech QCS International
Shanghai Maxmount Special Steel Co., Ltd.
Shanghai Minmetals (Hong Kong) Co., Ltd.
Shanghai Tianyang Import and Export Co., Ltd.
Shanghai Tsingshan Mineral Co., Ltd.
Shanghai Wilsun Hi-Tech Materials Co., Ltd.
Shanghai Xuntian International Trade Co., Ltd.
Shanghai Yijing Import Export Co., Ltd.
Shanghai Yuecai Steel Pipe Co., Ltd.
Shangshang Desheng Group Co., Ltd.
Shengli Oilfield Highland Petroleum Equipment Company Co., Ltd.
Shengli Oilfield Shengji Petroleum Equipment Co., Ltd.
Shenzhen Chiwan Sembawang Engineering Co., Ltd.
Shenzhen Gudsen Technology Co., Ltd
Shijiazhuang Dodgesun I/E Corp., Ltd.
Shijiazhuang Teneng Electrical & Mechanical Equipment Co., Ltd.
Shinda (Tangshan) Creative Oil & Gas Equipment Co., Ltd.
Sichuan Y&J Industries Co., Ltd.
Sunrise Industrial Equipment Inc.
Suzhou Foster International Co., Ltd
Suzhou Tuntun Sloth E-Commerce Co., Ltd.
Taixing Qitai Mechanical Foundry Co., Ltd.
Taiyuan Huaye Equipment Research Institute Co., Ltd.
Technoflex (Shanghai) Inc.
Tianjin Hengwang Machinery Co., Ltd.
Tianjin Jinggong Petroleum Pipe Fittings Co., Ltd.
Tianjin Laibide Trade Co., Ltd.
Tianjin Longshenghua Imp. & Exp.
Tianjin North-pipe Trade Co., Ltd.
Tianjin Pipe (Group) Co.
Tianjin Pipe International Economic & Trading Corp.
Tianjin Richsen Techhnology Co., Ltd.
Tianjin Shenzhoutong Steel Pipe Co., Ltd.
Tianjin Xinyue Industry & Trade Co., Ltd.
Tusco International Inc.
Tusteel International Inc.
Usual Material Group Limited
Vinto Industrial Co., Ltd.
Vst Steel Co., Ltd
Wenzhou Huachao Tech Co., Ltd.
Wenzhou Jiuchang Steel Co., Ltd.
Wenzhou Sunrise Import and Export Co., Ltd.
World Steel Asia Co., Ltd.
Wuhu Better Trade Co., Ltd.
Wuxi Dmk Hydraulic Technology Co., Ltd.
Wuxi Eastsun Trade Co., Ltd.
Wuxi Free Petroleum Tubulars Manufacture Co., Ltd.
Wuxi OFD Oil-Field Supply Co., Ltd.
Wuxi Seamless Pipe Co., Ltd.
Xiamen Youo Intelligent Technology Co., Ltd.
Xuzhou E&P Petroleum Equipment Co., Ltd.
Xuzhou Oilfield Equipment Co., Ltd.
Xuzhou Taifeng Oilwell Products Co., Ltd.
Xuzhou Yongsheng Pipe & Fitting Co., Ltd.
Yanda (Haimen) Heavy Equipment Manufacturing Co., Ltd.
Yangzhou Chengde Steel Pipe Co., Ltd.
Yangzhou Lontrin Steel Tube Co., Ltd.
Yantai Jereh Petroleum Equipment & Technologies Co., Ltd.
Yiwu Bentai Imp. & Exp. Co., Ltd.
Yiyang Yaxue Import and Export Co., Ltd.
Zhangjiagang City Yiyang Import & Export Trading Co. Ltd.
Zhangjiagang Fangling Tube-Making Co., Ltd.
Zhangjiagang Huacheng Import & Export Co., Ltd.
Zhangjiagang Maitan Metal Products Co., Ltd.
Zhangjiagang Shengdingyuan Pipe-Making Co., Ltd.
Zhejiang Bnjis Stainless Steel Co., Ltd.
Zhejiang Dingxin Steel Tube Manufacturing Co., Ltd.
Zhejiang E-Tune Special Steel. Tube Co. Ltd.
Zhejiang Jianli Enterprise Co., Ltd.
Zhejiang Shifang Pipe Industry Co., Ltd.
Zhejiang Gross Seamless Steel Tube., Ltd.
Zhejiang Jiuli Hi-Tech Metals Co., Ltd.
Zhejiang Kanglong Steel Co., Ltd.
Zhejiang Minghe Steel Pipe Co., Ltd.
Zhejiang Ruimai Stainless Steel Tube Co., Ltd.
Zhejiang Tsingshan Steel Pipe Co., Ltd.
Zhejiang Xinhang Stainless Steel Co., Ltd.
Zhejiang Yinlong Stainless Steel Co., Ltd.
Zhejiang Zhiju Pipeline Industry Co., Ltd.
Zhejiang Zhongda Special Steel Co., Ltd.
Zhejiang Zhongli Stainless Steel Pipe Co., Ltd.
Zhongxing Energy Equipment Co., Ltd.
Zhongzhou Special Alloy Tube Co., Ltd.
Suspension Agreements
None

⁷ Entries of merchandise produced and exported by Les Produits Forestiers D&G Ltée (and its cross-owned affiliates) are not subject to countervailing duties because this producer/exporter combination was excluded from the order. See Certain Softwood Lumber Products from Canada: Final Results of Countervailing Duty Expedited Review, 84 FR 32121 at 32122 (July 5, 2019). However, entries of merchandise produced by any other entity and exported by Les Produits Forestiers D&G Ltée (or its cross-owned affiliates) or produced by Les Produits Forestiers D&G Ltée (or its cross-owned affiliates) and exported by another entity are subject to this administrative review.

⁸ Entries of merchandise produced and exported by Marcel Lauzon Inc. (and its cross-owned affiliates) are not subject to countervailing duties because this producer/exporter combination was excluded from the order. See Certain Softwood Lumber Products from Canada: Final Results of Countervailing Duty Expedited Review, 84 FR 32121 at 32122 (July 5, 2019). However, entries of merchandise produced by any other entity and exported by Marcel Lauzon Inc. (or its cross-owned affiliates) or produced by Marcel Lauzon Inc. (or its cross-owned affiliates) and exported by another entity are subject to this administrative review.

⁹ Entries of merchandise produced and exported by North American Forest Products Ltd. (located in Saint-Quentin, New Brunswick) (and its cross-owned affiliates) are not subject to countervailing duties because this producer/exporter combination was excluded from the order. See Certain Softwood Lumber Products from Canada: Final Results of Countervailing Duty Expedited Review, 84 FR 32121 at 32122 (July 5, 2019). However, entries of merchandise produced by any other entity and exported by North American Forest Products Ltd. (located in Saint-Quentin, New Brunswick) (or its cross-owned affiliates) or produced by North American Forest Products Ltd. (located in Saint-Quentin, New Brunswick) (or its cross-owned affiliates) and exported by another entity are subject to this administrative review.

¹⁰ Entries of merchandise produced and exported by Roland Boulanger & Cie Ltée (and its cross-owned affiliates) are not subject to countervailing duties because this producer/exporter combination was excluded from the order. See Certain Softwood Lumber Products from Canada: Final Results of Countervailing Duty Expedited Review, 84 FR 32121 at 32122 (July 5, 2019). However, entries of merchandise produced by any other entity and exported by Roland Boulanger & Cie Ltée (or its cross-owned affiliates) or produced by Roland Boulanger & Cie Ltée (or its cross-owned affiliates) and exported by another entity are subject to this administrative review.

¹¹ Entries of merchandise produced and exported by Scierie Alexandre Lemay & Fils Inc. (and its cross-owned affiliates) are not subject to countervailing duties because this producer/exporter combination was excluded from the order. See Certain Softwood Lumber Products from Canada: Final Results of Countervailing Duty Expedited Review, 84 FR 32121 at 32122 (July 5, 2019). However, entries of merchandise produced by any other entity and exported by Scierie Alexandre Lemay & Fils Inc. (or its cross-owned affiliates) or produced by Scierie Alexandre Lemay & Fils Inc. (or its cross-owned affiliates) and exported by another entity are subject to this administrative review.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹² available at https://enforcement.trade.gov/frn/2013/1304frn/2013-08227.txt, prior to submitting factual information in this segment.

¹² See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

Any party submitting factual information in an AD or CVD proceeding must certify to the accuracy and completeness of that information using the formats provided at the end of the Final Rule.¹³ Commerce intends to reject factual submissions in any proceeding segments if the submitting party does not comply with applicable certification requirements.

¹³ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁴ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁴ See 19 CFR 351.302.

These initiations and this notice are in accordance with section 751(a) of the Act (19 U.S.C. 1675(a)) and 19 CFR 351.221(c)(1)(i).

Dated: March 4, 2020.
Scot Fullerton,
Associate Deputy Assistant Secretary for Antidumping and Countervailing Duty Operations.

[FR Doc. 2020-04841 Filed 3-9-20; 8:45 am]

BILLING CODE 3510-DS-P